FEDERAL COMMUNICATIONS COMMISSION

47 CFR Part 54

[GN Docket No. 20-32; DA 25-172; FR ID 288467]

Petitions for Reconsideration of Action in Rulemaking Proceeding; Correction

AGENCY: Federal Communications Commission.

ACTION: Petitions for reconsideration; correction.

SUMMARY: The Federal Communications Commission is correcting a Petition for Reconsideration (Petitions) that appeared in the Federal Register on March 14, 2025. The document, which invited comment on the Petitions filed in the Commission's rulemaking proceeding, incorrectly listed the date by which replies to an opposition to the Petitions must be filed.

DATES: April 8, 2025.

FOR FURTHER INFORMATION CONTACT: Valerie Barrish, Office of Economics and Analytics, Auctions Division, (202) 418-0660, or Valerie.Barrish@fcc.gov.

SUPPLEMENTARY INFORMATION:

Correction

In the Federal Register of March 14, 2025, in FR Doc. 2025-03750, on page 12121, in the third column, correct the DATES caption to read:

DATES: Oppositions to a petition must be filed on or before March 31, 2025. Replies to an Opposition must be filed on or before April 10, 2025.

Federal Communications Commission.
Gary Michaels,
Deputy Chief, Auctions Division, Office of Economics and Analytics.

[FR Doc. 2025-05943 Filed 4-4-25; 11:15 am]

BILLING CODE 6712-01-P